NUCLEAR REGULATORY COMMISSION

[Docket No. 50-458-LR, ASLBP No. 17-956-01-LR-BD01]

Entergy Operations, Inc.; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Entergy Operations, Inc.

(River Bend Station, Unit 1)

This proceeding involves an application by Entergy Operations, Inc. to renew for twenty years its operating license for River Bend Station, Unit 1, located in St. Francisville, Louisiana. The current operating license for River Bend Station, Unit 1, expires on midnight, August 29, 2025. In response to a notice published in the Federal Register, see 82 FR 37,908 (Aug. 14, 2017), announcing the opportunity to request a hearing, the Sierra Club on October 12, 2017 filed a petition to intervene and request for a hearing.

The Board is comprised of the following Administrative Judges:

E. Roy Hawkens, Chairman, Atomic Safety and Licensing Board Panel, U.S. Nuclear Regulatory Commission, Washington, DC 20555-0001

Dr. Michael F. Kennedy, Atomic Safety and Licensing Board Panel, U.S. Nuclear Regulatory Commission, Washington, DC 20555-0001

Dr. Richard E. Wardwell, Atomic Safety and Licensing Board Panel, U.S. Nuclear Regulatory Commission, Washington, DC 20555-0001

All correspondence, documents, and other materials shall be filed in accordance with the NRC E-Filing rule. See 10 CFR 2.302.

Rockville, Maryland, October 18, 2017.
Edward Hawkens,
Chief Administrative Judge, Atomic Safety and Licensing Board Panel.

[FR Doc. 2017-22975 Filed 10-23-17; 8:45 am]

BILLING CODE 7590-01-P